CORPORATION FOR NATIONAL AND COMMUNITY SERVICE

Sunshine Act Meeting

The Board of Directors of the Corporation for National and Community Service gives notice of the following meeting:

Date and Time: Tuesday, May 20, 2003; 9:30 a.m.-12:30 p.m.

Place: Crawford Hall 13; Case Western Reserve University, 10900 Euclid Avenue, Cleveland, Ohio 44106.

Status: Open.

Matters to be Considered: I. Chair's Opening Remarks.

II. Committee Reports.

III. University/City Partnerships in Service to the Community.

IV. Ohio Service Learning Initiatives: Higher Education.

V. Special and Unique Volunteerism and National Service Initiatives in the State of Ohio.

VI. Presentation and Display of Ohio Bi-Centennial Celebration Quilt.

VII. Public Comment.

Accomodations: Anyone who needs an interpreter or other accommodation should notify the Corporation's contact person by 5 p.m. Thursday, May 15, 2003.

FOR FURTHER INFORMATION CONTACT: Michele Tennery, Senior Associate, Public Affairs, Corporation for National and Community Service, 8th Floor, Room 8601, 1201 New York Avenue, NW., Washington, DC 20525. Phone (202) 606-5000 ext. 125. Fax (202) 565-2784. TDD: (202) 565-2799. E-mail: mtennery@cns.gov.

Dated: May 8, 2003.
Frank R. Trinity,
General Counsel.

[FR Doc. 03-11914 Filed 5-8-03; 2:12 pm]

BILLING CODE 6050-$$-P